DEPARTMENT OF TRANSPORTATION

Federal Aviation Administration

Notice of Intent To Rule on Application To Impose and Use the Revenue From a Passenger Facility Charge (PFC) at Hattiesburg-Laurel Regional Airport, Hattiesburg, Mississippi

AGENCY: Federal Aviation Administration (FAA), DOT.

ACTION: Notice of intent to rule on application.

SUMMARY: The FAA proposes to rule and invites public comment on the application to impose and use the revenue from a PFC at Hattiesburg-Laurel Regional Airport under the provisions of the Aviation Safety and Capacity Expansion Act of 1990 (Title IX of the Omnibus Budget Reconciliation Act of 1990) Pub. L. 101-508) and part 158 of the Federal Aviation Regulations (14 CFR part 158).

DATES: Comments must be received on or before December 22, 2000.

ADDRESSES: Comments on this application may be mailed or delivered in triplicate to the FAA at the following address: FAA/Airports District Office, 100 West Cross Street, Suite B, Jackson, MS 39208-2307.

In addition, one copy of any comments submitted to the FAA must be mailed or delivered to Hattiesburg-Laurel Regional Airport Authority, Mr. David G. Senne, Executive Director of the Hattiesburg-Regional Airport at the following address: 1002 Terminal Drive, Moselle, MS 39459.

Air carriers and foreign air carriers may submit copies of written comments previously provided to the Hattiesburg-Laurel Regional Airport Authority under § 158.23 of part 158.

FOR FURTHER INFORMATION CONTACT: Patrick Vaught, Program Manager, FAA/Airports District Office, 100 West Cross Street, Suite B, Jackson, MS 39208-2307, 601-664-9885. The application may be reviewed in person at this same location.

SUPPLEMENTARY INFORMATION: The FAA proposes to rule and invites public comment on the application to impose and use the revenue from a PFC at Hattiesburg-Laurel Regional Airport under the provisions of the Aviation Safety and Capacity Expansion Act of 1990 (Title IX of the Omnibus Budget Reconciliation Act of 1990) (Pub. L. 101-508) and part 158 of the Federal Aviation Regulations (14 CFR part 158).

On November 14, 2000, the FAA determined that the application to impose and use the revenue from a PFC submitted by Hattiesburg-Laurel Regional Airport Authority was substantially complete within the requirements of § 158.25 of part 158. The FAA will approve or disapprove the application, in whole or in part, no later than Date 120 days after receipt of application supplement.

The following is a brief overview of the application.

PFC Application No.: 00-03-C-00-PIB.

Level of the proposed PFC: $4.50.

Proposed charge effective date: May 1, 2001.

Proposed charge Expiration date: November 1, 2003.

Total estimated net PFC revenue: $149,610.

Brief Description of Proposed Projects: Acquire ARFF Vehicle; Engineering & Design Of Runway Overlay; Install Security Fencing; Install Airfield Signs; Land Purchase; Acquire Security Vehicle; Construct Ramp Edge Taxiway; Acquire Communications Equipment; Terminal Renovation, Phase I; Acquire Security Vehicle; Terminal Renovation, Phase II; Erosion Control; Rehab Security System; Terminal Renovation, Phase III.

Class or classes of air carriers which the public agency has requested not be required to collect PFCs: None.

Any person may Inspect the application in person at the FAA office listed above under FOR FURTHER INFORMATION CONTACT.

In addition, any person may, upon request, inspect the application, notice and other documents germane to the application in person at the Hattiesburg-Laurel Regional Airport.

Issued in Jackson, Mississippi, on November 16, 2000.
Wayne Atkinson,
Manager, Jackson Airports District Office, Southern Region.

[FR Doc. 00-29918 Filed 11-21-00; 8:45 am]

BILLING CODE 4910-13-M